FEDERAL TRADE COMMISSION

Agency Information Collection Activities; Submission for OMB Review; Comment Request

Correction

In notice document 00-27158 beginning on page 63251 in the issue of Monday, October 23, 2000, make the following corrections:

1. On page 63252, in the first column, under the heading “Burden Statement ” in the second paragraph, in the 19th line, “come burden” should read “some burden”.

2. On the same page, in the second column, under the heading “Non-Liquid Alternative Fuels”, in the sixth line, “5/6 + 133 hours” should read “5/6 = 133 hours”.

[FR Doc. C0-27158 Filed 11-3-00; 8:45 am]

BILLING CODE 1505-01-D

GENERAL SERVICES ADMINISTRATION

41 CFR Part 101-2

[FPMR Amendment A-56]

RIN 3090-AH32

Payments to GSA for Supplies and Services Furnished Government Agencies

Correction

In rule document 00-27653 on page 64372 in the issue of Friday, October 27, 2000, make the following correction:

On page 64372, in the second column, under the heading “ PART 101-2-[REMOVED]”, in the third line “496(c)” should read “486(c)”.

[FR Doc. C0-27653 Filed 11-3-00; 8:45 am]

BILLING CODE 1505-01-D

DEPARTMENT OF TRANSPORTATION

Federal Aviation Administration

14 CFR Part 39

[Docket No. 98-ANE-47-AD; Amendment 39-11511; AD 2000-01-13]

RIN 2120-AA64

Airworthiness Directives; Pratt & Whitney JT9D Series Turbofan Engines

Correction

In rule document 00-1193, beginning on page 2864, in the issue of Wednesday, January 19, 2000, make the following corrections:

§39.13 [Corrected]

1.On page 2864, in the third column, in the sixth line from the bottom, remove the word “should”.

2. On page 2865, the table is corrected to read as follows:

Engine Model | Part: Nomenclature | Engine Manual Part Number | FPI per Manual Section | Inspection
7/7A/7AH/7F, 7H/7J/20/20J | All Fan Hubs | 646028 (or the equivalent customized versions, 770407 and 770408) | 72-31-04 | 02
7/7A/7AH/7F, 7H/7J/20/20J | All HPT 1st Disks | 646028 (or the equivalent customized versions, 770407 and 770408) | 72-51-02 | 01
7/7A/7AH/7F, 7H/7J/20/20J | All HPT 2nd Disks | 646028 (or the equivalent customized versions, 770407 and 770408) | 72-51-02 | 03
59A/70A | All Fan Hubs | 754459 | 72-31-00 | Heavy Maintenance Check
59A/70A | All HPT 1st Disks | 754459 | 72-51-02 | Heavy Maintenance Check
59A/70A | All HPT 2nd Disks | 754459 | 72-51-02 | Heavy Maintenance Check
7Q/7Q3 | All Fan Hubs | 777210 | 72-31-00 | 03
7Q/7Q3 | All HPT 1st Disks | 777210 | 72-51-06 | 01
7Q/7Q3 | All HPT 2nd Disks | 777210 | 72-51-07 | 01
7R4 | All Fan Hubs | 785058, 785059 and 789328 | 72-31-00 | 03
7R4 | All HPT 1st Disks | 785058, 785059 and 789328 | 72-51-06 | 01
7R4 | All HPT 2nd Disks | 785058, 785059 and 789328 | 72-51-07 | 01

[FR Doc. C0-1193 Filed 11-3-00; 8:45 am]

BILLING CODE 1505-01-D

DEPARTMENT OF THE TREASURY

Customs Service

19 CFR Part 10

[T.D. 00-74]

RIN 1515-AC79

Refund of Duties Paid on Imports of Certain Wool Products

Correction

In proposed rule document 00-27522 beginning on page 64178 in the issue of Thursday, October 26, 2000, make the following corrections:

§10.184 [Corrected]

1. On page 64184, in the second column, in §10.184(d), in the final paragraph, in the first line``(1) Documentation required where the'' should read ``(2) Documentation required where the''.

2. On the same page, in the third column, in §10.184, in the fifth paragraph, the first line ``(B) A completed Customs Form (CF)'' should read ``(C) A completed Customs Form (CF)''.

3. On page 64186, in the third column, in §10.184(g), in the last paragraph, the first line ``(1)Place to file. A claim for a refund'' should read ``(2) Place to file. A claim for a refund''.

4. On page 64187, in the first column, in §10.184(g), in the second paragraph, the first line ``(2) Documentation. (i) Where the'' should read ``(3) Documentation. (i) Where the''.

[FR Doc. C0-27522 Filed 11-3-00; 8:45 am]

BILLING CODE 1505-01-D